DEPARTMENT OF THE TREASURY

Proposed Collection; Comment Request; TIGTA Generic Survey Request

AGENCY: Departmental Office, Department of the Treasury.

ACTION: Notice and request for comments.

SUMMARY: The Department of the Treasury, as part of its continuing effort to reduce paperwork and respondent burden, invites the general public and other Federal agencies to take this opportunity to comment on proposed information collections, as required by the Paperwork Reduction Act of 1995, Public Law 104-13 (44 U.S.C. 3506(c)(2)(A)). The Department of the Treasury is soliciting comments on this collection of information that is scheduled to expire July 31, 2015.

DATES: Written comments should be received on or before April 27, 2015 to be assured of consideration.

ADDRESSES: You may submit comments by email to Kim.Hyatt@tigta.treas.gov; subject line: Comment on TIGTA Generic Survey Request; or by mail to: Treasury PRA Clearance Officer, Office of Privacy, Transparency, and Records, 1750 Pennsylvania Ave., NW., Washington DC, 20220.

FOR FURTHER INFORMATION CONTACT: Requests for additional information or request a copy of the information collection can be directed to the addresses provided above.

SUPPLEMENTARY INFORMATION:

OMB Control Number: 1505-0217.

Title: Treasury Inspector General for Tax Administration (TIGTA) Generic Survey.

Abstract: The TIGTA's Office of Audit's mission is to provide independent oversight of IRS activities. Through its audit programs TIGTA promotes efficiency and effectiveness in the administration of internal revenue laws, including the prevention and detection of fraud, waste, and abuse affecting tax administration. To accomplish this, TIGTA Office of Audit at times finds it necessary to contact a limited number of taxpayers (including businesses) for various reasons.

Type of Review: Extension without change of a currently approved collection.

Affected Public: Individuals and Households; Private sector: Businesses or other for-profits.

Estimated Number of Respondents: 2,500.

Estimated Burden Hours: 2,500.

Request For Comment: Comments submitted in response to this notice will be summarized and included in the request for Office of Management and Budget approval. All comments will become a matter of public record. The public is invited to submit comments concerning: (a) whether the collection of information is necessary for the proper performance of the functions of the agency, including whether the information will have practical utility; (b) the accuracy of the agency's estimate of the burden of the collection of information; (c) ways to enhance the quality, utility, and clarity of the information to be collected; and (d) ways to minimize the burden of the collection of information on respondents, including the use of automated collection techniques or other forms of information technology; and (e) estimates of capital or start-up costs and costs of operation, maintenance, and purchase of services to provide information.

Dated: February 19, 2015.
Dawn D. Wolfgang,
Treasury PRA Clearance Officer.

[FR Doc. 2015-03697 Filed 2-23-15; 8:45 am]

BILLING CODE 4810-25-P